DEPARTMENT OF HEALTH AND HUMAN SERVICES

Centers for Disease Control and Prevention

Office for State, Tribal, Local and Territorial Support

In accordance with Presidential Executive Order No. 13175, November 6, 2000, and the Presidential Memorandum of November 5, 2009, and September 23, 2004, Consultation and Coordination with Indian Tribal Governments, CDC/Agency for Toxic Substances and Disease Registry (ATSDR), announces the following meeting and Tribal Consultation Session:

Name: Tribal Advisory Committee (TAC) Meeting and 13th Biannual Tribal Consultation Session.

Times and Dates: 8:00 a.m.-5:00 p.m., August 4, 2015 (TAC Meeting); 8:00 a.m.-5:00 p.m., August 5, 2015 (13th Biannual Tribal Consultation Session).

Place: The TAC Meeting and Tribal Consultation Session will be held at the Northern Quest, 100 North Hayford Road, Airway Heights, Washington 99001.

Status: The meetings are being hosted by CDC/ATSDR in-person only and are open to the public. Attendees must pre-register for the event by Friday, July 3, 2015, at the following link: http://www.cdc.gov/tribal/meetings.html.

Purpose: The purpose of these recurring meetings is to advance CDC/ATSDR support for and collaboration with tribes, and to improve the health of tribes through, including but not limited to, assisting in eliminating the health disparities faced by Indian tribes, ensuring that access to critical health and human services and public health services is maximized to advance or enhance the social, physical, and economic status of American Indian/Alaska Native (AI/AN) people; and promoting health equity for all AI/AN people and communities. To advance these goals, CDC/ATSDR conducts government-to-government consultations with elected tribal officials or their authorized representatives. Consultation is an enhanced form of communication that emphasizes trust, respect, and shared responsibility. It is an open and free exchange of information and opinion among parties that leads to mutual understanding and comprehension.

Matters for Discussion: The TAC and CDC leaders will discuss the following public health topics: Chronic disease prevention and health promotion in Indian Country, CDC's budget, and CDC's communication and engagement with tribes; however, discussion is not limited to these topics.

During the 13th Biannual Tribal Consultation Session, tribes and CDC leaders will engage in a listening session with CDC's director and have roundtable discussions with CDC senior leaders. Tribes will also have an opportunity to present testimony on tribal health issues.

Tribal leaders are encouraged to submit written testimony by July 17, 2015, by mail to Annabelle Allison, Deputy Associate Director, Tribal Support Unit, Office for State, Tribal, Local and Territorial Support (OSTLTS), Centers for Disease Control and Prevention, 4770 Buford Highway NE., MS E-70, Atlanta, Georgia 30341, or by email to TribalSupport@cdc.gov.

Depending on the time available, it might be necessary to limit each presenter's time.

The agenda is subject to change as priorities dictate.

Information about the TAC, CDC's Tribal Consultation Policy, and previous meetings can be found at the following link: http://www.cdc.gov/tribal.

Contact person for more information: Annabelle Allison, Deputy Associate Director, Tribal Support Unit, CDC/OSTLTS, 4770 Buford Highway NE., MS E-70, Atlanta, Georgia 30341; email: AAllison@cdc.gov.

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2015-13923 Filed 6-5-15; 8:45 am]

BILLING CODE 4163-18-P